DEPARTMENT OF HEALTH AND HUMAN SERVICES

Administration for Children and Families

Proposed Information Collection Activity; Comment Request

Proposed projects:

Title: Order to Withhold Income for Child Support Notice of an Order to Withhold Income for Child Support.

OMB No.: 0970-0154.

Description: Pub. L. 104-193, the Personal Responsibility and Work Opportunity Reconciliation Act (PRWORA) of 1996, section 234 requires the Federal Office of Child Support Enforcement (OCSE) to develop a standardized form to collect child support payments from an obligor's employer.

The form, which promotes standardization, is used for IV-D and non-IV-D cases that require income withholding. We are revising the form to make it more universal for tribal governments and other users. This 2-page form provides a detailed legal description of established child support orders, support amounts, and remittance information that an employer needs to withhold payments from an obligor who owes child support.

Respondents: 54.

Annual Burden Estimates:

Instrument | Number of respondents | Number of responses per respondent | Average burden hours per responses | Total burden hours
Order and Notice of an Order to Withhold Income for Child Support | 54 | 216,100 | .084 | 980,230

Estimated Total Annual Burden Hours: 980,230.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: rsargis@act.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: June 19, 2003.
Robert Sargis,
Reports Clearance Officer.

[FR Doc. 03-16048 Filed 6-24-03; 8:45 am]

BILLING CODE 4184-01-M